COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add products and services to the Procurement List that will be furnished by nonprofit agencies employing persons who are blind or have other severe disabilities and deletes products previously furnished by such agencies.

DATES: Comments Must Be Received on or Before: 3/11/2013.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to Procurement List for production by the nonprofit agencies listed:

Products

NSN: 7025-00-NIB-0004—Mouse, Optical Sensor, Black and Grey, Ergonomic shaped NPA: L.C. Industries for the Blind, Inc., Durham, NC

Contracting Activity: General Services Administration, New York, Ny Coverage: A-List for the Total Government Requirement as aggregated by the General Services Administration.

NSN: 7510-00-NIB-9843—Self Stick Rectangular Flag, .5″ x 1.7″, Multi Pack (Red/yellow/blue/green)

NPA: Association for the Blind and Visually Impaired—Goodwill Industries of Greater Rochester, Rochester, NY

Contracting Activity: General Services Administration, New York, Ny Coverage: A-List for the Total Government Requirement as aggregated by the General Services Administration.

Services

Service Type/Location: Custodial/Janitorial, Cochiti Lake Project Office, 82 Dam Crest Road, Pena Blanca, NM.

NPA: Adelante Development Center, Inc., Albuquerque, NM

Contracting Activity: Dept of the Army, W075 ENDIST Albuquerque, Albuquerque, NM.

Service Type/Location: Custodial Service, Consumer Financial Protection Bureau, 1625 Eye Street NW., Washington, DC.

NPA: Service Disabled Veterans Business Association, Silver Springs, MD

Contracting Activity: Consumer Financial Protection Bureau, Cfpb Procurement, Washington, DC.

Service Type/Location: Custodial Service, Toulson Courthouse, 129 East Main Street, Salisbury, MD.

NPA: Worcester County Developmental Center, Newark, MD

Contracting Activity: Public Buildings Service, GSA/PBS/R03 South Service Center, Philadelphia, PA.

Deletions

The following products are proposed for deletion from the Procurement List:

Products

NSN: 7045-01-568-9694—USB 2.0 Hard Drive, Portable, 320G

NSN: 7045-01-599-9345—USB Flash Drive, 256-Bit AES Encryption, Level 3 Encrypted, Anti-Virus, 4GB

NSN: 7045-01-599-9346—USB Flash Drive, 256-Bit AES Encryption, Level 3 Encrypted, Anti-Virus, 32GB

NSN: 7045-01-599-9348—USB Flash Drive, 256-Bit AES Encryption, Level 3 Encrypted, Anti-Virus, 8GB

NSN: 7045-01-599-9352—USB Flash Drive, 256-Bit AES Encryption, Level 3 Encrypted, 2GB

NSN: 7045-01-599-9353—USB Flash Drive, 256-Bit AES Encryption, Level 3 Encrypted, Anti-Virus, 16GB

NSN: 7045-01-599-9354—USB Flash Drive, 256-Bit AES Encryption, Level 3 Encrypted, Anti-Virus, 2GB

NPA: North Central Sight Services, Inc., Williamsport, PA

Contracting Activity: General Services Administration, New York, NY

NSN: 7420-01-484-1758—Clipboard w/Calculator

NPA: MidWest Enterprises for the Blind, Inc., Kalamazoo, MI

Contracting Activity: General Services Administration, New York, NY

Barry S. Lineback,
Director, Business Operations.

[FR Doc. 2013-02880 Filed 2-7-13; 8:45 am]

BILLING CODE 6353-01-P